NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 4, 2007. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001. E-mail: requestschedule@nara.gov. FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Cooperative State Research, Education, and Extension Service (N1-540-07-4, 24 items, 16 temporary items). Program management records, including institutional reviews, management studies, training course development records, routine committee and conference records, and working files, drafts, duplicates, and reference materials relating to these activities. Proposed for permanent retention are recordkeeping copies of committee secretariat and agency-sponsored conference program records, published articles, and the speeches and presentations of agency administrators. This schedule authorizes the agency to apply the proposed disposition instructions to any recordkeeping medium.

2. Department of Agriculture, Cooperative State Research, Education, and Extension Service (N1-540-07-5, 6 items, 6 temporary items). Budget records, including planning and estimate development, presentation, and execution records; background and working files; and reimbursable agreements. This schedule authorizes the agency to apply the proposed disposition instructions to any recordkeeping medium.

3. Department of the Army, Agency-wide (N1-AU-06-4, 3 items, 1 temporary item). System outputs associated with an electronic information system designed to track Arlington National Cemetery's decedent data. Included are decedent reports, daily funeral schedules, and temporary grave marker reports. The electronic system master file and documentation are proposed for permanent retention.

4. Department of the Army, Agency-wide (N1-AU-07-4, 3 items, 3 temporary items). Outputs, master file, and documentation associated with an electronic information system used to track basic human resources data on individuals enlisting in the U.S. Army.

5. Department of Commerce, National Oceanic and Atmospheric Administration (N1-370-07-1, 1 item, 1 temporary item). Coastal Resource Coordinator records consisting of responses to requests for comment or involvement as a natural resource trustee.

6. Department of Commerce, National Oceanic and Atmospheric Administration (N1-370-07-2, 1 item, 1 temporary item). Training and workshop records. This schedule authorizes the agency to apply the proposed disposition instructions to any recordkeeping medium.

7. Department of Commerce, National Oceanic and Atmospheric Administration (N1-370-07-3, 1 item, 1 temporary item). This schedule authorizes the agency to apply the existing disposition instructions to records series regardless of the recordkeeping medium, for grant files. Paper recordkeeping copies of these files were previously approved for disposal.

8. Department of Defense, Office of the Secretary of Defense (N1-330-07-3, 1 item, 1 temporary item). Master file associated with an electronic information system used to process visit requests for foreign nationals to Department of Defense components and contractor facilities. Data includes lists of individuals and associated personal data.

9. Department of Defense, Defense Commissary Agency (N1-506-07-10, 2 items, 2 temporary items). Records pertaining to safety. Included are surveys, reviews, inspection reports, notices of unhealthy working conditions, records of changes made as a result of recommendations, correspondence, inspection logs, and related records on safety at agency facilities. This schedule authorizes the agency to apply the proposed disposition instructions to any recordkeeping medium.

10. Department of Defense, Defense Commissary Agency (N1-506-07-11, 4 items, 4 temporary items). Records pertaining to agency operations. Included are agency reading files, visual aids used during internal agency briefings, staff meeting minutes, and conference presentations. This schedule authorizes the agency to apply the proposed disposition instructions to any recordkeeping medium.

11. Department of Health and Human Services, Centers for Disease Control and Prevention (N1-442-06-2, 1 item, 1 temporary item). Records of the International Cable System. Included are system copies of budget, travel, and personnel cables between the agency, its field posts, and U.S. embassies. This schedule authorizes the agency to apply the proposed disposition instructions to any recordkeeping medium.

12. Department of Homeland Security, National Protection and Programs Directorate (N1-563-07-7, 4 items, 4 temporary items). Inputs, master files, and outputs for the Chemical Security Assessment Tool database, which contains information used to assess high risk chemical facilities. This schedule authorizes the agency to apply the proposed disposition instructions to any recordkeeping medium.

13. Department of Homeland Security, Office of Intelligence and Analysis (N1-563-07-11, 8 items, 8 temporary items). Inputs, master files, and outputs for the Intelligence Watch and Warning 24 Hour Log database, which contains intelligence reports about events that may constitute a threat to homeland security. This schedule authorizes the agency to apply the proposed disposition instructions to any recordkeeping medium for all schedule items except the master files.

14. Department of Homeland Security, Transportation Security Administration (N1-560-07-2, 8 items, 8 temporary items). Inputs, outputs, master file, and documentation relating to a system containing data on individuals who have been identified either correctly or incorrectly as a threat to transportation security and are petitioning the government for redress.

15. Department of State, Bureau of Overseas Buildings Operations (N1-59-07-5, 2 items, 2 temporary items). Resource management files used to document the expenditure of capital program funds and policy within the bureau.

16. Environmental Protection Agency, Headquarters (N1-412-07-51, 6 items, 6 temporary items). This schedule authorizes the agency to apply the existing disposition instructions to records series regardless of the recordkeeping medium. Included are records relating to administration of the Toxic Substances Control Act, including notices of exports, administrative tracking and control records, supporting information, log books, and registers. Paper recordkeeping copies of these files were previously approved for disposal.

17. Environmental Protection Agency, Agency-wide (N1-412-07-58, 23 items, 12 temporary items). This schedule authorizes the agency to apply the existing disposition instructions to Office of Water records, regardless of recordkeeping medium. The records include watersheds needs survey records, water contamination incident reports, state water standards files postdating 1974, state water quality reports, and additives products files. Paper recordkeeping copies of these files were previously approved for disposal. Records proposed for permanent retention include final reports to Congress, state water standard historical files, 1965-1974, effluent guidelines studies, municipal waste facility inventories, fish kill annual reports, approved alternate test procedure application files, and 404 program files. Paper recordkeeping copies of these files were previously approved as permanent.

Dated: August 28, 2007.
Howard P. Lowell,
Deputy Assistant Archivist for Records Services—Washington, DC.

[FR Doc. E7-17394 Filed 8-31-07; 8:45 am]

BILLING CODE 7515-01-P